DEPARTMENT OF ENERGY

Federal Energy Regulatory Commission

[Docket No. EL14-47-000]

Public Utility District No. 1 of Snohomish County, Washington; Notice of Petition for Declaratory Order

Take notice that on May 6, 2014, pursuant to Rule 207(a)(2) of the Federal Energy Regulatory Commission's (Commission) Rules of Practice and Procedure, 18 CFR 385.207(a)(2), the Public Utility District No. 1 of Snohomish County, Washington (District) filed a petition for declaratory order requesting that the Commission declare that: (1) The Federal Power Act ¹ preempts the regulatory authority of Island County, Washington (Island County) and the Washington State Department of Ecology (Ecology) under Washington's Shoreline Management Act (SMA) over the District's action to construct, operate, and maintain the Admiralty Inlet Pilot Tidal Project (Project) under its license; and (2) the District accordingly is not required to obtain the approval of Island County and Ecology in the form of Shoreline Conditional Use Permit under the SMA in order to construct, operate, and maintain the Project.

¹ 16 U.S.C. 791-823d (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Petitioner.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 5, 2014.

Dated: May 8, 2014.
Kimberly D. Bose,
Secretary.

[FR Doc. 2014-11096 Filed 5-13-14; 8:45 am]

BILLING CODE 6717-01-P